DEPARTMENT OF TRANSPORTATION

Federal Aviation Administration

14 CFR Part 97

[Docket No. 30914; Amdt. No. 3549]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 19, 2013. The compliance date for each SIAP, associated Takeoff Minimums, and ODP is specified in the amendatory provisions.

The incorporation by reference of certain publications listed in the regulations is approved by the Director of the Federal Register as of August 19, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR Part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR Part 51, and 14 CFR Part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR Part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on August 2, 2013.
John Duncan,
Deputy Director, Flight Standards Service.

Adoption of the Amendment

Accordingly, pursuant to the authority delegated to me, Title 14, Code of Federal Regulations, Part 97 (14 CFR Part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 19 September 2013

Tuskegee, AL, Moton Field Muni, RNAV (GPS) RWY 13, Amdt 2

Tuskegee, AL, Moton Field Muni, RNAV (GPS) RWY 31, Amdt 2

Manila, AR, Manila Muni, RNAV (GPS) RWY 18, Amdt 1

Manila, AR, Manila Muni, RNAV (GPS) RWY 36, Orig

Manila, AR, Manila Muni, Takeoff Minimums and Obstacle DP, Amdt 1

Melbourne, AR, Melbourne Muni—John E Miller Field, RNAV (GPS) RWY 3, Amdt 1A

Big Bear City, CA, Big Bear City, RNAV (GPS) RWY 26, Amdt 1

Titusville, FL, NASA Shuttle Landing Facility, RNAV (GPS) RWY 15, Amdt 1

Effingham, IL, Effingham County Memorial, RNAV (GPS) RWY 1, Orig-B

Effingham, IL, Effingham County Memorial, RNAV (GPS) RWY 29, Orig

Kewanee, IL, Kewanee Muni, RNAV (GPS) RWY 1, Amdt 1

Kewanee, IL, Kewanee Muni, RNAV (GPS) RWY 9, Amdt 1

Kewanee, IL, Kewanee Muni, RNAV (GPS) RWY 19, Amdt 1

Kewanee, IL, Kewanee Muni, RNAV (GPS) RWY 27, Amdt 1

Kendallville, IN, Kendallville Muni, RNAV (GPS) RWY 10, Orig

Kendallville, IN, Kendallville Muni, RNAV (GPS) RWY 28, Amdt 1

La Porte, IN, La Porte Muni, RNAV (GPS) RWY 2, Amdt 1

La Porte, IN, La Porte Muni, RNAV (GPS) RWY 20, Amdt 1

Abilene, KS, Abilene Muni, RNAV (GPS) RWY 17, Amdt 1

Abilene, KS, Abilene Muni, RNAV (GPS) RWY 35, Amdt 1

El Dorado, KS, Captain Jack Thomas/El Dorado, RNAV (GPS) RWY 4, Amdt 1

El Dorado, KS, Captain Jack Thomas/El Dorado, RNAV (GPS) RWY 15, Amdt 1

El Dorado, KS, Captain Jack Thomas/El Dorado, RNAV (GPS) RWY 22, Amdt 1

El Dorado, KS, Captain Jack Thomas/El Dorado, RNAV (GPS) RWY 33, Amdt 1

Herington, KS, Herington Rgnl, RNAV (GPS) RWY 17, Amdt 1

Herington, KS, Herington Rgnl, RNAV (GPS) RWY 35, Amdt 1

Paola, KS, Miami County, RNAV (GPS) RWY 3, Amdt 1

Paola, KS, Miami County, RNAV (GPS) RWY 21, Amdt 1

Topeka, KS, Forbes Field, RNAV (GPS) RWY 3, Amdt 1

Topeka, KS, Forbes Field, RNAV (GPS) RWY 21, Amdt 1

Topeka, KS, Philip Billard Muni, RNAV (GPS) RWY 18, Amdt 2

Topeka, KS, Philip Billard Muni, RNAV (GPS) RWY 36, Amdt 1

Clare, MI, Clare Muni, RNAV (GPS) RWY 4, Orig

Clare, MI, Clare Muni, Takeoff Minimums and Obstacle DP, Amdt 2

Clare, MI, Clare Muni, VOR-A, Amdt 2

Houghton Lake, MI, Roscommon County—Blodgett Memorial, RNAV (GPS) RWY 9, Amdt 2A

Houghton Lake, MI, Roscommon County—Blodgett Memorial, RNAV (GPS) RWY 27, Amdt 1A

Mason, MI, Mason Jewett Field, RNAV (GPS) RWY 10, Orig-A

Mason, MI, Mason Jewett Field, RNAV (GPS) RWY 28, Orig-A

Crookston, MN, Crookston Muni/Kirkwood Fld, VOR RWY 31, Amdt 5, CANCELED

Hallock, MN, Hallock Muni, RNAV (GPS) RWY 13, Orig

Hallock, MN, Hallock Muni, RNAV (GPS) RWY 31, Amdt 1

Osage Beach, MO, Grand Glaize-Osage Beach, RNAV (GPS) RWY 14, Amdt 1

Osage Beach, MO, Grand Glaize-Osage Beach, RNAV (GPS) RWY 32, Amdt 1

Booneville/Baldwyn, MS, Booneville/Baldwyn, RNAV (GPS) RWY 15, Amdt 1

Booneville/Baldwyn, MS, Booneville/Baldwyn, RNAV (GPS) RWY 33, Amdt 1

North Platte NE., North Platte Rgnl Airport Lee Bird Field, ILS OR LOC RWY 30, Amdt 7

North Platte NE., North Platte Rgnl Airport Lee Bird Field, RNAV (GPS) RWY 12, Amdt 1

North Platte NE., North Platte Rgnl Airport Lee Bird Field, RNAV (GPS) RWY 30, Amdt 2

North Platte NE., North Platte Rgnl Airport Lee Bird Field, RNAV (GPS) RWY 35, Amdt 1

North Platte NE., North Platte Rgnl Airport Lee Bird Field, Takeoff Minimums and Obstacle DP, Amdt 5

New York, NY, John F Kennedy Intl, ILS OR LOC RWY 31R, Amdt 15C

Niagara Falls, NY, Niagara Falls Intl, NDB RWY 28R, Amdt 17

Niagara Falls, NY, Niagara Falls Intl, RNAV (GPS) RWY 28R, Orig

Niagara Falls, NY, Niagara Falls Intl, TACAN RWY 28R, Orig

Charleston, SC, Charleston AFB/Intl, RNAV (GPS) Y RWY 15, Amdt 3A

Charleston, SC, Charleston AFB/Intl, RNAV (GPS) Y RWY 33, Amdt 3A

Rapid City, SD, Rapid City Rgnl, RNAV (GPS) RWY 5, Orig

Rapid City, SD, Rapid City Rgnl, RNAV (GPS) RWY 23, Orig

Huntingdon, TN, Carroll County, RNAV (GPS) RWY 1, Amdt 1

Huntingdon, TN, Carroll County, RNAV (GPS) RWY 19, Amdt 1

Lewisburg, TN, Ellington, RNAV (GPS) RWY 2, Amdt 1

Lewisburg, TN, Ellington, RNAV (GPS) RWY 20, Amdt 1

Livingston, TN, Livingston Muni, RNAV (GPS) RWY 3, Amdt 1

Livingston, TN, Livingston Muni, RNAV (GPS) RWY 21, Amdt 1

Oneida, TN, Scott Muni, RNAV (GPS) RWY 5, Amdt 1

Oneida, TN, Scott Muni, RNAV (GPS) RWY 23, Amdt 1

Smyrna, TN, Smyrna, RNAV (GPS) RWY 1, Orig

Smyrna, TN, Smyrna, RNAV (GPS) RWY 19, Orig

Gilmer, TX, Fox Stephens Field—Gilmer Muni, RNAV (GPS) RWY 18, Orig

Gilmer, TX, Fox Stephens Field—Gilmer Muni, RNAV (GPS) RWY 36, Orig

Gilmer, TX, Fox Stephens Field—Gilmer Muni, Takeoff Minimums and Obstacle DP, Amdt 1

Delta, UT, Delta Muni, RNAV (GPS) RWY 17, Amdt 1A

Delta, UT, Delta Muni, RNAV (GPS) RWY 35, Amdt 1A

Lynchburg, VA, Lynchburg Rgnl/Preston Glenn Fld, RNAV (GPS) RWY 17, Orig

Lynchburg, VA, Lynchburg Rgnl/Preston Glenn Fld, RNAV (GPS) RWY 35, Orig

Quinton, VA, New Kent County, Takeoff Minimums and Obstacle DP, Amdt 2

Boyceville, WI, Boyceville Muni, RNAV (GPS) RWY 26, Amdt 2

Grantsburg, WI, Grantsburg Muni, RNAV (GPS) RWY 12, Orig

Grantsburg, WI, Grantsburg Muni, RNAV (GPS) RWY 30, Orig

Grantsburg, WI, Grantsburg Muni, VOR/DME-A, Amdt 2

Marshfield, WI, Marshfield Muni, RNAV (GPS) RWY 16, Orig-B

Petersburg, WV, Grant County, GPS RWY 31, Amdt 1A, CANCELED

Petersburg, WV, Grant County, RNAV (GPS)-C, Orig

Petersburg, WV, Grant County, RNAV (GPS) Y RWY 31, Orig

Petersburg, WV, Grant County, RNAV (GPS) Z RWY 31, Orig

Petersburg, WV, Grant County, Takeoff Minimums and Obstacle DP, Amdt 1

Petersburg, WV, Grant County, VOR/DME-A, Amdt 2A

Fort Bridger, WY, Fort Bridger, RNAV (GPS) RWY 22, Amdt 1

Powell, WY, Powell Muni, NDB RWY 31, Amdt 2

Powell, WY, Powell Muni, RNAV (GPS) RWY 13, Orig

Powell, WY, Powell Muni, RNAV (GPS) RWY 31, Orig

Powell, WY, Powell Muni, Takeoff Minimums and Obstacle DP, Amdt 2

Effective 17 October 2013

Kwigillingok, AK Kwigillingok, RNAV (GPS) RWY 15, Orig, CANCELED

Kwigillingok, AK Kwigillingok, RNAV (GPS) RWY 33, Orig, CANCELED

Kwigillingok, AK Kwigillingok, Takeoff Minimums and Obstacle DP, Orig, CANCELED

Pell City, AL, St Clair County, VOR-A, Amdt 9, CANCELED

Fort Morgan, CO, Fort Morgan Muni, RNAV (GPS) RWY 14, Orig-A

Greencastle, IN, Putnam County, NDB RWY 18, Amdt 1A, CANCELED

Rogers City, MI, Presque Isle County, NDB RWY 27, Amdt 3A, CANCELED

Windom, MN, Windom Muni, NDB RWY 17, Amdt 5A, CANCELED

Prague, OK, Prague Muni, NDB RWY 17, Amdt 1A, CANCELED

Cleveland, TN, Hardwick Field, NDB RWY 3, Amdt 2A, CANCELED

Melfa, VA, Accomack County, LOC RWY 3, Orig, CANCELED

Merrill, WI, Merrill Muni, NDB RWY 7, Amdt 3A, CANCELED

Merrill, WI, Merrill Muni, NDB RWY 16, Amdt 7A, CANCELED

RESCINDED: On July 5, 2013 (78 FR 40383), the FAA published an Amendment in Docket No. 30907, Amdt No. 3542 to Part 97 of the Federal Aviation Regulations under section 97.20. The following entry for Juneau, AK, effective 22 August 2013 is hereby rescinded in its entirety:

Juneau, AK, Juneau Intl, ASORT ONE, Graphic DP

RESCINDED: On July 22, 2013 (78 FR 43782), the FAA published an Amendment in Docket No. 30909, Amdt No. 3544 to Part 97 of the Federal Aviation Regulations under section 97.23, 97.27, 97.29, and 97.33. The following entries for Twin Falls, ID, effective 22 August 2013 are hereby rescinded in their entirety:

Twin Falls, ID, Joslin Field—Magic Valley Rgnl, ILS OR LOC RWY 26, Amdt 10

Twin Falls, ID, Joslin Field—Magic Valley Rgnl, NDB RWY 26, Amdt 7

Twin Falls, ID, Joslin Field—Magic Valley Rgnl, RNAV (GPS) RWY 8, Amdt 1

Twin Falls, ID, Joslin Field—Magic Valley Rgnl, RNAV (GPS) RWY 26, Amdt 1

Twin Falls, ID, Joslin Field—Magic Valley Rgnl, Takeoff Minimums and Obstacle DP, Amdt 3

Twin Falls, ID, Joslin Field—Magic Valley Rgnl, VOR RWY 8, Amdt 5

Twin Falls, ID, Joslin Field—Magic Valley Rgnl, VOR RWY 26, Amdt 16

Twin Falls, ID, Joslin Field—Magic Valley Rgnl, VOR/DME RWY 8, Amdt 1

[FR Doc. 2013-19466 Filed 8-16-13; 8:45 am]

BILLING CODE 4910-13-P